FEDERAL COMMUNICATIONS COMMISSION

[FR ID 110818]

Open Commission Meeting Thursday, October 27, 2022

October 20, 2022.

The Federal Communications Commission will hold an Open Meeting on the subjects listed below on Thursday, October 27, 2022, which is scheduled to commence at 10:30 a.m. in the Commission Meeting Room of the Federal Communications Commission, 45 L Street NE, Washington, DC. While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Uniendo a Puerto Rico Fund and the Connect USVI Fund (WC Docket No. 18-143); Connect America Fund (WC Docket No 10-90). Summary: The Commission will consider a Further Notice of Proposed Rulemaking that would ensure continued support for mobile carriers and extend the support phase down for incumbent fixed broadband providers in Puerto Rico and the U.S. Virgin Islands to enhance their networks' reliability and resiliency in the face of hurricanes and other natural disasters.
2 | Wireless Tele-Communications and Office of Engineering & Technology | Title: Considering 12.7 GHz Band for Next-Generation Wireless Services (GN Docket No. 22-352). Summary: The Commission will consider a Notice of Inquiry to seek information on the current use of the 12.7-13.25 GHz band, ways to encourage more efficient and intensive use of the band, and whether the band is suitable for mobile broadband or other expanded use. The Commission will also consider an Order to extend the temporary freeze on applications in the 12.7 GHz band.
3 | Wireline Competition | Title: Caller ID Authentication on Non-IP Networks (WC Docket No. 17-97). Summary: The Commission will consider a Notice of Inquiry launching a broad inquiry on caller ID authentication technology for non-Internet Protocol networks.
4 | Public Safety & Homeland Security | Title: Improving the Security of the National Alert and Warning Systems (PS Docket No. 22-329); Amendment of Part 11 of the Commission's Rules Regarding the Emergency Alert System (PS Docket No. 15-94); Wireless Emergency Alerts (PS Docket No. 15-91). Summary: The Commission will consider a Notice of Proposed Rulemaking to strengthen the operational readiness of the Emergency Alert System and Wireless Emergency Alerts, including by reducing the vulnerability of these systems to cyberattacks.
5 | Media | Title: Restricted Adjudicatory Matter. Summary: The Commission will consider a restricted adjudicatory matter.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2022-23381 Filed 10-26-22; 8:45 am]

BILLING CODE 6712-01-P